DEPARTMENT OF COMMERCE

International Trade Administration

[C-489-502]

Final Results of Countervailing Duty New Shipper Review: Certain Welded Carbon Steel Standard Pipe from Turkey

AGENCY: Import Administration, International Trade Administration, Department of Commerce.

SUMMARY: On February 26, 2007, the Department of Commerce (“the Department”) published in the Federal Register its preliminary results of the new shipper review of the countervailing duty (“CVD”) order on certain welded carbon steel standard pipe from Turkey for the period January 1, 2005, through December 31, 2005. The Department preliminarily found that Toscelik Profil ve Sac Endustrisi A.S. and its affiliated export trading company, Tosyali Dis Ticaret A.S. (collectively referred to as “Toscelik”), the producer/exporter of subject merchandise covered by this review, received countervailable subsidies during the period of review (“POR”). We did not receive any comments on our preliminary results and have made no revisions to those results.

EFFECTIVE DATE: May 2, 2007.

FOR FURTHER INFORMATION CONTACT: Kristen Johnson or George McMahon, AD/CVD Operations, Office 3, Import Administration, International Trade Administration, U.S. Department of Commerce, 14th Street and Constitution Avenue, NW, Washington, DC 20230; telephone: (202) 482-4793 and (202) 482-1167, respectively.

SUPPLEMENTARY INFORMATION:

Background

On March 7, 1986, the Department published in the Federal Register the CVD order on certain welded carbon steel pipe and tube products from Turkey. See Countervailing Duty Order: Certain Welded Carbon Steel Pipe and Tube Products from Turkey, 51 FR 7984 (March 7, 1986). On February 26, 2007, the Department published in the Federal Register the preliminary results for this review. See Preliminary Results of Countervailing Duty New Shipper Review: Certain Welded Carbon Steel Standard Pipe from Turkey, 72 FR 8348 (February 26, 2007) (“New Shipper Preliminary Results”).

In the New Shipper Preliminary Results, we invited interested parties to submit case briefs commenting on the preliminary results or to request a hearing. We did not hold a hearing in this review, as one was not requested, and did not receive any case briefs.

Scope of the Order

The products covered by this order are certain welded carbon steel pipe and tube with an outside diameter of 0.375 inch or more, but not over 16 inches, of any wall thickness (pipe and tube) from Turkey. These products are currently provided for under the Harmonized Tariff Schedule of the United States (“HTSUS”) as item numbers 7306.30.10, 7306.30.50, and 7306.90.10. Although the HTSUS subheadings are provided for convenience and customs purposes, the written description of the merchandise is dispositive.

Final Results of Review

As noted above, the Department received no comments concerning the preliminary results. Therefore, consistent with the New Shipper Preliminary Results, we continue to find that Toscelik received countervailable subsidies during the POR. In accordance with section 751(a)(2)(B)(i) of the Tariff Act of 1930, as amended (“the Act”), we calculated a total net subsidy rate of 0.20 percent ad valorem, which is de minimis, pursuant to 19 CFR 351.106(c).

As there have been no changes to or comments on the preliminary results, we are not attaching a decision memorandum to this Federal Register notice. For further details of the programs included in this proceeding, see the New Shipper Preliminary Results.

Assessment Rates/Cash Deposits

The Department intends to issue assessment instructions to U.S. Customs and Border Protection (“CBP”) 15 days after the date of publication of these final results of this review, to liquidate shipments of subject merchandise by Toscelik entered, or withdrawn from warehouse, for consumption on or after January 1, 2005, through December 31, 2005, without regard to countervailing duties because a de minimis subsidy rate was calculated. We will also instruct CBP not to collect cash deposits of estimated countervailing duties on shipments of the subject merchandise by Toscelik entered, or withdrawn from warehouse, for consumption on or after the date of publication of the final results of this review. These deposit requirements shall remain in effect until further notice.

Return or Destruction of Proprietary Information

This notice also serves as a reminder to parties subject to administrative protective order (“APO”) of their responsibility concerning the disposition of proprietary information disclosed under APO in accordance with 19 CFR 351.305(a)(3). Timely written notification of the return/destruction of APO materials or conversion to judicial protective order is hereby requested. Failure to comply with the regulations and the terms of an APO is a sanctionable violation.

We are issuing and publishing these results in accordance with sections 751(a)(1) and 777(i)(1) of the Act.

Dated: April 27, 2007.
David M. Spooner,
Assistant Secretary for Import Administration.

[FR Doc. E7-8376 Filed 5-1-07; 8:45 am]

BILLING CODE 3510-DS-S